DEPARTMENT OF AGRICULTURE

Submission for OMB Review; Comment Request

June 12, 2013.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by July 18, 2013 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Fruits and Vegetables.

OMB Control Number: 0579-0316.

Summary of Collection: Under the Plant Protection Act (7 U.S.C. 7701 et. seq.), the Secretary of Agriculture is authorized to carry out operations or measures to detect, eradicate, suppress, control, prevent, or retard the spread of plant pest not known to be widely distributed throughout the United States. The regulations contained in Title 7 of the Code of Federal Regulations, Part 319 (Subpart Fruits and Vegetables), Sections 319.56 through 319.56-48 implement the intent of the Act by prohibiting or restricting the importation of certain fruits and vegetables into the United States from certain parts of the world to prevent the introduction and dissemination of fruit flies and other injurious plant pests that are new to the United States or not widely distributed within the United States.

Need and Use of the Information: The Animal and Plant Health Inspection Service (APHIS) will collect information using PPQ form 587, “Permit Application,” Phytosanitary Certificate, Inspections, Records, Labeling and Trapping. If APHIS did not collect this information, the effectiveness of its Import Regulations would be severely compromised, likely resulting in the introduction of a number of destructive agricultural pests into the United States.

Description of Respondents: Business or other for-profit; Federal Government.

Number of Respondents: 2,959.

Frequency of Responses: Recordkeeping; Reporting: On occasion.

Total Burden Hours: 124,779.

Ruth Brown,
Departmental Information Collection Clearance Officer.

[FR Doc. 2013-14396 Filed 6-17-13; 8:45 am]

BILLING CODE 3410-34-P